DEPARTMENT OF ENERGY

Office of Fossil Energy; Methane Hydrate Advisory Committee

AGENCY: Department of Energy.

ACTION: Notice of open meeting.

This notice announces a meeting of the Methane Hydrate Advisory Committee. Federal Advisory Committee Act (Pub. L. 92-463, 86 Stat. 770) requires that notice of these meetings be announced in the Federal Register.

DATES: Tuesday, June 7, 2005, 8 a.m. to 5 p.m., Wednesday, June 8, 2005, 8 a.m. to noon.

ADDRESSES: Hotel Galvez, 2024 Seawall Boulevard, Galveston, Texas 77550.

FOR FURTHER INFORMATION CONTACT: Edith Allison, U.S. Department of Energy, Office of Oil and Natural Gas, Washington, DC 20585. Phone: 202-586-1023.

SUPPLEMENTARY INFORMATION: Purpose of the Committee: The purpose of the Methane Hydrate Advisory Committee is to provide advice on potential applications of methane hydrate to the Secretary of Energy; assist in developing recommendations and priorities for the Department of Energy methane hydrate research and development program.

Tentative Agenda:

Tuesday, June 7

• Welcome and Introductions

• Joint meeting with the Interagency Coordinating Committee—8:15 a.m. to 12:30 p.m. Briefings on recent accomplishments, planned activities, issues and concerns by the Department of Energy; U.S. Geological Survey; Minerals Management Service; National Oceanic and Atmospheric Administration; Naval Research Laboratory; and National Science Foundation. Discussion of major interagency issues, including activities with other nations, FY2006 budgets, and reauthorization

• Offshore Studies Update

• Arctic Studies Update

• Open Discussion: future program directions

Wednesday, June 8

• Changes in Advisory Committee structure: reauthorization, requirement for Committee members to be “special Government employees”

• Continue open discussion of future program directions and preparation of letter to the Secretary

• Adjourn

Public Participation: The meeting is open to the public. The Chairman of the Committee will conduct the meeting to facilitate the orderly conduct of business. If you would like to file a written statement with the Committee, you may do so either before or after the meeting. If you would like to make oral statements regarding any of the items on the agenda, you should contact Edith Allison at the address or telephone number listed above. You must make your request for an oral statement at least five business days prior to the meeting, and reasonable provisions will be made to include the presentation on the agenda. Public comment will follow the 10-minute rule.

Minutes: The minutes of this meeting will be available for public review and copying within 60 days at the Freedom of Information Public Reading Room, Room 1E-190, Forrestal Building, 1000 Independence Avenue, SW., Washington, DC, between 9 a.m. and 4 p.m., Monday through Friday, except federal holidays. Transcripts will be available upon request.

Issued at Washington, DC, on May 4, 2005.
Rachel M. Samuel,
Deputy Advisory Committee, Management Officer.

[FR Doc. 05-9396 Filed 5-10-05; 8:45 am]

BILLING CODE 6450-01-P